DEPARTMENT OF TRANSPORTATION

Office of the Secretary

Aviation Proceedings, Agreements Filed the Week Ending April 1, 2005

The following Agreements were filed with the Department of Transportation under the provisions of 49 U.S.C. Sections 412 and 414. Answers may be filed within 21 days after the filing of the application.

Docket Number: OST-2005-20854.

Date Filed: March 31, 2005.

Parties: Members of the International Air Transport Association

Subject: PTC2 ME-AFR 0130 dated 8 March 2005. TC2 Middle East-Africa Resolutions r1-r14. Minutes: PTC2 ME-AFR 0131 dated 24 March 2005. Tables: PTC2 ME-AFR Fares 0069 dated 18 March 2005. Intended effective date: 1 May 2005.

Renee V. Wright,
Acting Program Manager, Docket Operations, Alternate Federal Register Liaison.

[FR Doc. 05-7370 Filed 4-12-05; 8:45 am]

BILLING CODE 4910-62-P